DEPARTMENT OF ENERGY

Federal Energy Regulatory Commission

[Docket No. RP04-509-000]

Northwest Pipeline Corporation; Notice of Proposed Changes in FERC Gas Tariff

September 1, 2004.

Take notice that on August 27, 2004, Northwest Pipeline Corporation (Northwest) tendered for filing as part of its FERC Gas Tariff, Third Revised Volume No. 1, the following tariff sheets, to be effective October 1, 2004:

Seventh Revised Sheet No. 19-A

Sixth Revised Sheet No. 20

Fifth Revised Sheet No. 21

Second Revised Sheet No. 21-A

Seventh Revised Sheet No. 275

Second Revised Sheet No. 302-C

Northwest states that the purpose of this filing is to enhance customer options for acquiring available capacity from Northwest by revising Northwest's tariff to: (1) Allow pre-arranged service agreements for available capacity for primary service terms of thirty-one days or less to be subject to a minimum competing bid period of only one hour; and (2) allow the existing load factor based discounted reservation rate under Rate Schedule TF-1 to include a minimum average load factor provision for billing purposes.

Northwest states that a copy of this filing has been served upon Northwest's customers and interested state regulatory commissions.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed in accordance with the provisions of Section 154.210 of the Commission's regulations (18 CFR 154.210). Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, N.E., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-2116 Filed 9-8-04; 8:45 am]

BILLING CODE 6717-01-P